DEPARTMENT OF HEALTH AND HUMAN SERVICES

Administration for Children and Families

[OMB No.: 0970-0414]

Proposed Information Collection Activity; Comment Request

Title: Assets for Independence (AFI) Program Evaluation.

Description: The U.S. Department of Health and Human Services, Administration for Children and Families (ACF) is proposing a data collection activity as part of an experimental evaluation of the Assets for Independence (AFI) Program. The purpose of this study is to assess the impact of participation in AFI-funded individual development account (IDA) projects on the savings, asset purchases, and economic well-being of low-income individuals and families. The primary research question is: What is the impact of AFI project participation on outcomes such as savings, asset purchases, and material hardship?

While some evaluations suggest that IDAs help low-income families save, rigorous experimental research is limited. Few studies have focused on AFI-funded IDAs, and few have tested alternative design features.

The Assets for Independence Evaluation is the first experimental evaluation of IDA projects operating under the Assets for Independence Act, and will contribute importantly to understanding the effects of IDA project participation on project participants. The evaluation was launched in fall 2011 in two sites, with the random assignment of AFI-eligible cases to program and control groups. OMB approved three data collection efforts related to this project in October 2012, including approval of a baseline survey, 12-month follow-up survey, and implementation study protocols.

This Federal Register Notice provides the opportunity to comment on a proposed new information collection activity: the AFI Evaluation second follow-up survey (at 36 months post-random assignment) of both treatment and control group members. The purpose of the AFI Evaluation 36-month follow-up survey is to follow-up with study participants to document their intermediate savings and savings patterns, asset purchases, and other economic outcomes. The evaluation consists of both an impact study and an implementation study. Data collection activities will span a three-year period.

Data collection activities to submit in a future information collection request include a third follow-up survey for AFI Evaluation study participants approximately 60 months after study enrollment.

Respondents: Individuals enrolled in AFI programs, individuals who have left AFI programs, and control group members.

Annual Burden Estimates
Instrument | Total number of respondents | Annual number of respondents | Number of responses per respondent | Average burden hours per response | Annual burden hours
Follow-Up Survey: AFI-eligible participants | 814 | 271 | 1 | 0.5 | 136

Estimated Total Annual Burden Hours: 136.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade, SW., Washington, DC 20447, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
ACF Reports Clearance Officer.

[FR Doc. 2015-14117 Filed 6-9-15; 8:45 am]

BILLING CODE 4184-26-P